DEPARTMENT OF VETERANS AFFAIRS

[OMB Control No. 2900—NEW]

Proposed Information Collection (Awards & ROI) Activity: Comment Request

AGENCY: Office of Small and Disadvantaged Business Utilization (OSDBU), The Department of Veterans Affairs (VA).

ACTION: Notice.

SUMMARY: VA OSDBU is announcing an opportunity for public comment on the proposed collection of certain information by the agency. Under the Paperwork Reduction Act (PRA) of 1995, Federal agencies are required to publish notice in the Federal Register concerning each proposed new collection of information and allow 60 days for public comment in response to the notice. This notice solicits comments on information needed to (1) determine the return on investment (ROI) provided by the National Veterans Small Business Engagement (NVSBE) to the Department of Veterans Affairs (VA), other Federal agencies, and small and large business attendees, (2) have a mechanism that allows to share ROI and satisfaction levels with potential attendees in order to make informed decisions regarding their participation in future NVSBEs.

DATES: Written comments and recommendations on the proposed collection of information should be received on or before July 20, 2015.

ADDRESSES: Submit written comments on the collection of information through Federal Docket Management System (FDMS) at www.Regulations.gov or to Milagros Ortiz, OSDBU, (OOSB) or email to: milagros.ortiz@va.gov. Please refer to “OMB Control No. 2900—NEW (Awards & ROI)” in any correspondence. During the comment period, comments may be viewed online through FDMS.

FOR FURTHER INFORMATION CONTACT: Milagros Ortiz (202) 461-4279 or Fax (202) 461-4301.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, OMB invites comments on: (1) Whether the proposed collection of information is necessary for the proper performance of OMB's functions, including whether the information will have practical utility; (2) the accuracy of OMB's estimate of the burden of the proposed collection of information; (3) ways to enhance the quality, utility, and clarity of the information to be collected; and (4) ways to minimize the burden of the collection of information on respondents, including through the use of automated collection techniques or the use of other forms of information technology.

Title: Awards & ROI.

OMB Control Number: 2900—NEW.

Type of Review: New collection.

Abstract: The Office of Small and Disadvantaged Business Utilization (OSDBU) needs to measure the return on investment received by attendees of the 2014 National Veteran Small Business Engagement. This will be determined by the incidence of federal and commercial contracts and sub-contracts received by large and small business as result of their participation at this event, and the benefits received by connecting with decision makers during the engagement.

Affected Public: Small and large business representatives that attended the NVSBE.

Estimated Annual Burden: 40 hours.

Estimated Average Burden per Respondent: 3 minutes.

Frequency of Response: Once a year, 6 months after the NVSBE.

Estimated Number of Respondents: 800 per year.

By direction of the Secretary.
Crystal Rennie,
Department Clearance Officer, Department of Veterans Affairs.

[FR Doc. 2015-12201 Filed 5-19-15; 8:45 am]

BILLING CODE 8320-01-P